DEPARTMENT OF DEFENSE

Department of the Army

Record of Decision (ROD) for the Base Closure and Realignment (BRAC) 2005 Actions at Fort McPherson, GA

AGENCY: Department of the Army, DoD.

ACTION: Record of decision.

SUMMARY: The Department of the Army announces the availability of the ROD, which summarizes the decision on how to implement property disposal in accordance with the Defense Base Closure and Realignment Act of 1990 (the Base Closure Act), Public Law 101-510, as amended, following the closure of Fort McPherson, Georgia.

The Army has decided to implement its preferred alternative of early transfer of surplus federal property to other entities for reuse. Pursuant to the National Environmental Policy Act of 1969 (NEPA) and its implementing regulations, the Army prepared a Final Environmental Impact Statement (FEIS) that includes the evaluation of the environmental and socioeconomic impacts of disposing of surplus federal property and the implementation by others of reasonable, foreseeable reuse alternatives for the entire property. Under the early transfer alternative, the Army can transfer and dispose of surplus property for redevelopment before environmental remedial actions have been completed. This method of early disposal, allowable under Section 120(h)(3)(C) of the Comprehensive Environmental Response, Compensation and Liability Act (CERCLA) of 1980, would defer the CERCLA covenant requirement to complete all necessary environmental cleanup prior to the transfer of the remediated property. In this way, parcels could become available for redevelopment and reuse sooner under this disposal alternative than under any other. The Governor of Georgia must concur with the deferral request for the surplus federal property at Fort McPherson.

ADDRESSES: To obtain a copy of the ROD contact Mr. Owen Nuttall, Fort McPherson BRAC Environmental Office, Building 714, 1508 Hood Avenue, Fort Gillem, GA 30297-5161; (404) 469-5245 or owen.nuttall@us.army.mil. An electronic version of the ROD can be viewed or downloaded at: http://www.hqda.army.mil/acsim/brac/nepa_eis_docs.htm.

FOR FURTHER INFORMATION CONTACT: Mr. Owen Nuttall at (404) 469-5245.

SUPPLEMENTARY INFORMATION: The McPherson Planning Local Redevelopment Authority (MPLRA) reuse plan (Reuse Plan) provides the basis for the development of reasonable and foreseeable reuse scenarios evaluated in the FEIS. The McPherson Implementing Local Redevelopment Authority (MILRA) is the implementation authority for the redevelopment of Fort McPherson and will implement the Reuse Plan. The range of reuse alternatives evaluated in the EIS encompasses reasonably foreseeable variations of the Reuse Plan and the results of this analysis were used by the Army in its decision regarding disposition of the property.

A Memorandum of Agreement (MOA) for the Closure and Disposal of Fort McPherson has been legally executed by the signing of authorized representatives of the Army, the Georgia State Historic Preservation Officer, and the Advisory Council on Historic Preservation. Army obligations fully described in the MOA are considered mitigations required under the National Historic Preservation Act. Specific mitigation measures the Army commits to perform are outlined in the MOA.

Dated: April 7, 2011.
Hershell E. Wolfe,
Acting Deputy Assistant Secretary of the Army (Environment, Safety and Occupational Health).

[FR Doc. 2011-8814 Filed 4-12-11; 8:45 am]

BILLING CODE 3710-08-P